DEPARTMENT OF HOMELAND SECURITY

Coast Guard

33 CFR Part 165

[Docket No. USCG-2025-0789]

Safety Zones; Fireworks Displays in the USCG East District (Formerly the Fifth Coast Guard District)—Philadelphia, PA

AGENCY: Coast Guard, DHS.

ACTION: Notification of enforcement of regulation.

SUMMARY: The Coast Guard will enforce a safety zone for the Cooper Foundation Fireworks Display on the Delaware River on September 26, 2025, to provide for the safety of life on navigable waterways during this event. Our regulation for marine events within the USCG East District (formerly the Fifth Coast Guard District) identifies the regulated area for this event. During the enforcement period, the operator of any vessel in the regulated area must comply with directions from the Patrol Commander or any Official Patrol displaying a Coast Guard ensign.

DATES: The regulations in 33 CFR 165.506, for Philadelphia, PA, will be enforced for the location identified in entry 10 of table 1 to paragraph (h)(1) from 8:30 p.m. through 9:30 p.m. on September 26, 2025.

FOR FURTHER INFORMATION CONTACT: If you have questions about this notification of enforcement, call or email Petty Officer Dominick Dobridge, U.S. Coast Guard, Sector Delaware Bay, Waterways Management Division, telephone: 206-815-6688, option 3, email: SecDelBayWWM@uscg.mil.

SUPPLEMENTARY INFORMATION: The Coast Guard will enforce a safety zone for the Delaware River, Philadelphia, PA, from 8:30 p.m. to 9:30 p.m. on September 26, 2025. This action is necessary to ensure safety of life on the navigable waters of the United States immediately prior to, during, and immediately after fireworks displays. Our regulation for safety zones of fireworks displays within the USCG East District (formerly the Fifth Coast Guard District), table 1 to paragraph (h)(1) to 33 CFR 165.506, entry 10 specifies the location of the regulated area as all waters of the Delaware River adjacent to Penn's Landing, Philadelphia, PA, within a 500-feet radius of the fireworks barge position. On September 26, 2025, the approximate position will be 39°56′53.65″ N, 75°08′03.43″ W. During the enforcement period, as reflected in § 165.506(d), vessels may not enter, remain in, or transit through the safety zone unless authorized by the Captain of the Port or designated Coast Guard patrol personnel on-scene.

In addition to this notification of enforcement in the Federal Register, the Coast Guard plans to provide notification of this enforcement period via the Local Notice to Mariners and Broadcast Notice to Mariners.

Dated: September 12, 2025.
Kate F. Higgins-Bloom,
Captain, U.S. Coast Guard, Captain of the Port, Sector Delaware Bay.

[FR Doc. 2025-18381 Filed 9-22-25; 8:45 am]

BILLING CODE 9110-04-P